DEPARTMENT OF DEFENSE

Office of the Secretary

[Transmittal No. 22-0A]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 22-0A.

Dated: May 25, 2023.
Aaron T. Siegel,
Alternate OSD Federal Register Liaison Officer, Department of Defense.

Transmittal No. 22-0A

REPORT OF ENHANCEMENT OR UPGRADE OF SENSITIVITY OF TECHNOLOGY OR CAPABILITY (SEC. 36(B)(5)(C)), (AECA)

(i) Purchaser: Government of Australia

(ii) Sec. 36(b)(1), AECA Transmittal No.: 15-26

Date: April 28, 2015

Military Department: Navy

(iii) Description: On April 28, 2015, Congress was notified by Congressional certification transmittal number 15-26 of the possible sale under Section 36(b)(1) of the Arms Export Control Act of follow-on sustainment support and services in support of three (3) Hobart Class Destroyers. The sustainment efforts included AEGIS computer software and hardware updates, system integration and testing, tools and test equipment, spare and repair parts, support equipment, publications and technical documentation, personnel training and training equipment, aircrew trainer devices upgrades, U.S. Government and contractor technical assistance, and other related elements of logistics and program support. The estimated total cost was $275 million. Major Defense Equipment (MDE) constituted $0 of this total.

On June 27, 2019, Congress was notified by Congressional certification transmittal number 0L-19 of Australia's request to purchase upgrade kits for their Multifunctional Information Distribution System (MIDS) Low Volume Terminal (LVT) equipment installed on the Hobart Class Destroyers. The MIDS LVT Block Upgrade 2 (BU2) kits provide a suite of hardware, software and firmware updates for the MIDS LVT units to provide a more robust security and enhanced throughput (higher data rate). The total case value remained $275 million.

On May 27, 2020, Congress was notified by Congressional certification transmittal number 0E-20 of Australia's request to purchase the following MDE items: three (3) MIDS Joint Tactical Radio System (JTRS) equipment suites to be installed on the Hobart Class Destroyers; three (3) MIDS on Ship (MOS) Modernization (MOS Mod) equipment suites to replace the current MOS systems installed on the HC Destroyers; and three (3) Command and Control Processor System (C2PS) equipment suites to replace the current legacy C2P systems installed on the HC Destroyers. This equipment resulted in total MDE costs of $12.0 million and a corresponding decrease in non-MDE value by $12.0 million. The total case value remained $275 million.

This transmittal notifies Australia's request for continued sustainment and support services for its three (3) Hobart Class Destroyers.

The overall MDE value will remain at $12.0 million. The total case value will increase to $600 million.

(iv) Significance: This proposed sale will contribute to the modernization of the Royal Australian Navy HC Destroyers, improve the Royal Australian Navy's capability to conduct self-defense and regional security missions, and enhance its interoperability with the United States and other NATO members.

(v) Justification: This proposed sale supports the foreign policy and national security objectives of the United States by improving the security of a Major Non-NATO Ally that is a key partner of the United States in ensuring peace and stability around the world.

(vi) Sensitivity of Technology: No additional MDE is proposed as part of this transmittal. The highest level of classification of defense articles, components, and services included in this potential sale is SECRET.

(vii) Date Report Delivered to Congress: January 12, 2022

[FR Doc. 2023-11581 Filed 5-31-23; 8:45 am]

BILLING CODE 5001-06-P